DEPARTMENT OF HEALTH AND HUMAN SERVICES

Food and Drug Administration

[FDA No. 225-08-2000]

Memorandum of Understanding With the U.S. Army Corps of Engineers, Mobile District

AGENCY: Food and Drug Administration, HHS.

ACTION: Notice.

SUMMARY: The Food and Drug Administration (FDA) is providing notice of a memorandum of understanding (MOU) between FDA and the U.S. Army Corps of Engineers, Mobile District. This MOU establishes a mutual framework governing the respective responsibilities of the parties for the provision of health services through the Corps' Regional Occupational Health Center to FDA employees at the FDA Gulf Coast Seafood Laboratory. Goods and services the Corps may provide include, but are not limited to, physicals at age-appropriate intervals, referral of employees to private physicians, prevention programs related to health, and other related goods and services as meet the criteria and standards of the Public Health Service, immunizations for influenza and tetanus, and safety and environmental counseling

DATES: The agreement became effective April 28, 2008.

FOR FURTHER INFORMATION CONTACT: Julia Pryor, Center for Food Safety and Nutrition, rm. 122 (HFS-400), Food and Drug Administration, P.O. Box 158, One Iberville Dr., Dauphin Island, AL 36528, 251-694-4479.

SUPPLEMENTARY INFORMATION: In accordance with 21 CFR 20.108(c), which states that all written agreements and MOUs between FDA and others shall be published in the Federal Register, the agency is publishing notice of this MOU.

Dated: May 13, 2008.
Jeffrey Shuren,
Associate Commissioner for Policy and Planning.

BILLING CODE 4160-01-S

[FR Doc. E8-11521 Filed 5-21-08; 8:45 am]

BILLING CODE 4160-01-C